DEPARTMENT OF THE INTERIOR

Bureau of Land Management

[LWO30100.PQ0000 L13400000]

Renewal of Approved Information Collection; OMB Control No. 1004-0132

AGENCY: Bureau of Land Management, Interior.

ACTION: 60-Day notice and request for comments.

SUMMARY: In compliance with the Paperwork Reduction Act, the Bureau of Land Management (BLM) invites public comments on, and plans to request approval to continue, the collection of information from those who wish to participate in the exploration, development, production, and utilization of geothermal resources on BLM-managed public lands, and on lands managed by other Federal agencies. The Office of Management and Budget (OMB) has assigned control number 1004-0132 to this information collection.

DATES: Please submit comments on the proposed information collection by September 19, 2016.

ADDRESSES: Comments may be submitted by mail, fax, or electronic mail.

Mail: U.S. Department of the Interior, Bureau of Land Management, 1849 C Street NW, Room 2134LM, Attention: Jean Sonneman, Washington, DC 20240.

Fax: to Jean Sonneman at 202-245-0050.

Electronic mail: Jean_Sonneman@blm.gov.

Please indicate “Attn: 1004-0132” regardless of the form of your comments.

FOR FURTHER INFORMATION CONTACT: John Kalish at 202-912-7312. Persons who use a telecommunication device for the deaf may call the Federal Information Relay Service at 1-800-877-8339, to leave a message for Mr. Kalish.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information pertains to this request:

Title: Geothermal Resource Leases and Unit Agreements (43 CFR parts 3200 and 3280).

OMB Control Number: 1004-0132.

Summary: The BLM collects the information in order to decide whether or not to approve geothermal resource leases and unit agreements, process nominations for geothermal lease sales, and monitor compliance with granted approvals.

Frequency of Collection: On occasion, except for the Monthly Report of Geothermal Operations (Form 3260-5), which is required monthly.

Forms:

• Form 3200-9, Notice of Intent to Conduct Geothermal Resource Exploration Operations;

• Form 3203-1, Nomination of Lands for Competitive Geothermal Leasing;

• Form 3260-2, Geothermal Drilling Permit;

• Form 3260-3, Geothermal Sundry Notice; and

• Form 3260-4; Geothermal Well Completion Report; and

• Form 3260-5; Monthly Report of Geothermal Operations.

Description of Respondents: Those who wish to participate in the exploration, development, production, and utilization of geothermal resources on BLM-managed by other Federal agencies.

Estimated Annual Responses: 908.

Estimated Annual Burden Hours: 5,404.

Estimated Annual Non-Hour Costs: $77,110.

The estimated burdens are itemized in the following table:

Type of response | Number of responses | Hours per response | Total hours (column B × column C)
A | B | C | D
Lessee Qualifications, 43 CFR subpart 3202 | 75 | 1 | 75
Nomination of Lands for Competitive Leasing, 43 CFR subpart 3203, Form 3203-1 | 80 | 1 | 80
Noncompetitive Leasing Other than Direct Use Leases, 43 CFR subpart 3204 | 50 | 4 | 200
Direct Use Leasing, 43 CFR subpart 3205 | 10 | 10 | 100
Lease Issuance, 43 CFR subpart 3206 | 155 | 1 | 155
Lease Terms and Extensions, 43 CFR subpart 3207 | 50 | 1 | 50
Lease Consolidation, 43 CFR subpart 3210 | 50 | 1 | 50
Lease Suspensions and Royalty Rate Reductions, 43 CFR subpart 3212 | 10 | 40 | 400
Lease Relinquishment, Termination, and Cancellation, 43 CFR subpart 3213 | 10 | 40 | 400
Lease Reinstatement, 43 CFR subpart 3213 | 5 | 1 | 5
Cooperative Agreement, 43 CFR subpart 3217 | 10 | 40 | 400
Notice of Intent to Conduct Geothermal Exploration Activities, 43 CFR subpart 3251, Form 3200-9 | 12 | 8 | 96
Geothermal Sundry Notice, 43 CFR subpart 3252, Form 3260-3 | 100 | 8 | 800
Reports: Exploration Operations, 43 CFR subpart 3253 | 12 | 8 | 96
Exploration Operations Relief and Appeals, 43 CFR subpart 3256 | 10 | 8 | 80
Geothermal Drilling Permit, 43 CFR subpart 3261, Form 3260-2 | 60 | 8 | 480
Geothermal Well Completion Report, 43 CFR subpart 3264, Form 3260-4 | 12 | 10 | 120
Utilization Plans and Facility Construction Permits, 43 CFR subpart 3272 | 10 | 10 | 100
Site License Application, 43 CFR subpart 3273 | 10 | 10 | 100
Relinquishment, Assignment, or Transfer of a Site License, 43 CFR subpart 3273 | 22 | 1 | 22
Commercial Use Permit, 43 CFR subpart 3274 | 10 | 10 | 100
Monthly Report of Geothermal Operations, 43 CFR subpart 3276, Form 3260-5 | 120 | 10 | 1200
Unit Agreement, 43 CFR subpart 3281 | 10 | 10 | 100
Participating Area, 43 CFR subpart 3282 | 10 | 10 | 100
Unit Agreement Modifications, 43 CFR subpart 3283 | 10 | 10 | 100
Totals | 913 |  | 5,409

Jean Sonneman,
Bureau of Land Management, Information Collection Clearance Officer.

[FR Doc. 2016-17020 Filed 7-18-16; 8:45 am]

BILLING CODE 4310-84-P